NATIONAL AERONAUTICS AND SPACE ADMINISTRATION

[Notice (07-084)]

NASA International Space Station Advisory Committee; Meeting

AGENCY: National Aeronautics and Space Administration (NASA).

ACTION: Notice of meeting.

SUMMARY: In accordance with the Federal Advisory Committee Act, Public Law 92-463, as amended, the National Aeronautics and Space Administration announces an open meeting of the NASA International Space Station Advisory Committee.

DATES: December 20, 2007, 11 a.m.-12 p.m. Eastern Standard Time.

ADDRESSES: National Aeronautics and Space Administration Headquarters, 300 E Street, SW., Room 3H46, Washington, DC 20546.

FOR FURTHER INFORMATION CONTACT: Dr. Glen R. Asner, Office of External Relations, (202) 358-0903, National Aeronautics and Space Administration, Washington, DC 20546-0001.

SUPPLEMENTARY INFORMATION: This meeting will be open to the public up to the seating capacity of the room. Five seats will be reserved for members of the press. The agenda for the meeting is as follows:

—To assess the progress of the Expedition Sixteen mission.

—To assess the readiness of the International Space Station to accept visiting vehicles from international partners.

—To assess NASA and Roscosmos plans for accommodating a six-person crew aboard the International Space Station.

Attendees will be requested to sign a register and to comply with NASA security requirements, including the presentation of a valid picture ID, before receiving an access badge. Foreign nationals attending this meeting will be required to provide the following information: full name; gender; date/place of birth; citizenship; visa/green card information (number, type, expiration date); passport information (number, country, expiration date); employer/affiliation information (name of institution, address, country, phone); title/position of attendee. To expedite admittance, attendees should provide identifying information in advance by contacting Glen Asner via e-mail at glen.asner@nasa.gov or by telephone at (202) 358-0903 by December 13, 2007.

It is imperative that the meeting be held on this date to accommodate the scheduling priorities of the key participants.

P. Diane Rausch,
Advisory Committee Management Officer, National Aeronautics and Space Administration.

[FR Doc. E7-23409 Filed 12-3-07; 8:45 am]

BILLING CODE 7510-13-P